DEPARTMENT OF THE TREASURY

Submission for OMB Review; Comment Request

June 2, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 9, 2010 to be assured of consideration.

Financial Crimes Enforcement Network (FinCEN)

OMB Number: 1506-0045.

Type of Review: Extension without change of a currently approved collection.

Title: Imposition of Special Measure against Banco Delta Asis.

Description: FinCEN is issuing this rulemaking to impose a special measure against Banco Delta Asia as a financial institution of primary money laundering concern, pursuant to the authority contained in 31 U.S.C. 5318A.

Affected Public: Private Sector: Businesses or other for-profits.

Estimated Total Reporting Burden: 5,000 hours.

Bureau Clearance Officer: Russell Stephenson (202) 354-6012, Department of the Treasury, Financial Crimes Enforcement Network, P.O. Box 39, Vienna, VA 22183; (202) 354-6012.

OMB Reviewer: Shagufta Ahmed, Office of Management and Budget, New Executive Office Building, Room 10235, Washington, DC 20503; (202) 395-7873.

Celina Elphage,
Treasury PRA Clearance Officer.

[FR Doc. 2010-13850 Filed 6-8-10; 8:45 am]

BILLING CODE 4810-02-P